DEPARTMENT OF ENERGY

Federal Energy Regulatory Commission

[Docket No. OR05-8-000]

BP Exploration (Alaska) Inc. and BP Oil Supply Company, Complainants, v. ConocoPhillips Transportation Alaska, Inc.; Respondent; Notice of Complaint; Request for Fast TRACK Processing

July 20, 2005.

Take notice that on June 30, 2005, BP Exploration (Alaska) Inc. and BP Oil Supply Company (collectively, BP) filed a Complaint against ConocoPhillips Transportation Alaska Inc. (ConocoPhillips) pursuant to section 13(1) of the Interstate Commerce Act, 49 U.S.C. 13(1), 18 CFR 343.2(c), Rule 206 of the Commission's Rules of Practice and Procedures, 18 CFR 395.206(2004). BP requests that the Commission stay the effective date of ConocoPhillips' revised proration policy. If the policy is already effective, BP requests that the Commission stay further effectiveness of such proration policy pending a determination as to the lawfulness of such proration policy, and order ConocoPhillips to make reparation to BP for any financial damage BP may suffer as a result of ConocoPhillips' revised proration policy. BP requested fast track processing of the Complaint. Subsequently the parties began settlement discussions, and requested that the time for answers and comments be extended to August 1, 2005.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, D.C. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 1, 2005.

Magalie R. Salas,
Secretary.

[FR Doc. E5-4042 Filed 7-28-05; 8:45 am]

BILLING CODE 6717-01-P